DEPARTMENT OF AGRICULTURE

Forest Service

Gardin-Taco Ecosystem Restoration Projects, Colville National Forest, Pend Oreille and Stevens Counties, WA

AGENCY: Forest Service, USDA.

ACTION: Revised notice of intent.

SUMMARY: December 24, 1998 the Forest Service published a Notice of Intent to prepare an environmental impact statement (EIS) for the Gardin-Taco Ecosystem Restoration Projects in the Federal Register (63 FR 71264). The Forest Service is revising the proposed action, the preliminary issues, the dates the EIS is expected to be available for public review and comment, and the release of the final EIS.

The allotment management plan and decision for the Cusick-Gardiner Livestock Allotment has been completed. This range allotment management planning is no longer part of the decision to be made for these projects. The preliminary issues are roads and road management, vegetation management tools, noxious weeds and recreation use. The draft EIS should be available in June 2001, and the final EIS should be available in September 2001.

The Responsible Official is Nora B. Rasure, Forest Supervisor, 765 North Main, Colville, WA 99114, phone: 509 684-7000, fax: 509 684-7280.

DATES: Comments concerning the scope of this revised analysis should be received no later than January 9, 2001.

ADDRESSES: Send written comments to Nora B. Rasure, Forest Supervisor, 765 North Main, Colville, WA 99114, phone: 509 684-7000, fax: 509 684-7280; or Dan Dallas, Newport District Ranger, 315 North Warren, Newport, WA 99156, phone: 509-447-7300, fax: 509 447-7301, TTY: 509 447-7302; email: ddallas@fs.fed.us.

FOR FURTHER INFORMATION CONTACT: Amy Dillon, Interdisciplinary Team Leader, 315 North Warren, Newport, WA 99156, phone: 509 446-7560, fax: 509 446-7580; TDY: 509 446-7516, email: adillon@fs.fed.us.

Dated: October 31, 2000.
Nora B. Rasure,
Forest Supervisor.

[FR Doc. 00-29125 Filed 11-14-00; 8:45 am]

BILLING CODE 3410-11-M